DEPARTMENT OF JUSTICE

Office of Justice Programs

[OJP (NIJ) Docket No. 1675]

NIJ STANDARD 0117.01 Public Safety Bomb Suit Standard

AGENCY: National Institute of Justice, OJP, DOJ.

ACTION: Notice and request for comments.

SUMMARY: In an effort to obtain comments from interested parties, the U.S. Department of Justice, Office of Justice Programs, National Institute of Justice (NIJ) will make available to the general public the draft:

NIJ STANDARD 0117.01 Public Safety Bomb Suit Standard For Law Enforcement and Public Safety.

The opportunity to provide comments on these documents is open to industry technical representatives, law enforcement agencies and organizations, research, development and scientific communities, and all other stakeholders and interested parties. Those individuals wishing to obtain and provide comments on the draft documents under consideration are directed to the following Web site: https://justnet.org/app/publiccomment/default.aspx?Id=12

DATES: The comment period will be open until November 24, 2014.

FOR FURTHER INFORMATION CONTACT: David Otterson, by telephone at 301-240-6754, or by email at David.M.Otterson@lmco.com

William J. Sabol,
Acting Director, National Institute of Justice.

[FR Doc. 2014-24249 Filed 10-9-14; 8:45 am]

BILLING CODE 4410-18-P